DEPARTMENT OF AGRICULTURE

Forest Service

36 CFR Part 251

RIN 0596-AC87

Management of National Forest System Surface Resources With Privately Held Mineral Estates

AGENCY: Forest Service, USDA.

ACTION: Advance notice of proposed rulemaking; request for comment.

SUMMARY: The Forest Service is preparing to promulgate regulations to provide clarity and direction on the management of National Forest System surface resources when the mineral estate is privately held.

DATES: Comments must be received in writing by February 27, 2009.

ADDRESSES: Written comments concerning this advance notice of proposed rulemaking notice should be addressed to Forest Service, USDA, attn: Director, Minerals and Geology Management, at Mail Stop 1126, Washington, DC 20250-1126; by electronic mail to 36cfr251@fs.fed.us; or by fax to (703) 605-1575; or by the electronic process available at Federal e-Rulemaking portal at http://www.regulations.gov. All comments, including names and addresses when provided, are placed in the record and are available for public inspection and copying. The public may inspect comments received at 1601 N. Kent Street, Suite 500, Arlington, Virginia 22209 during regular business hours (8:30 a.m. to 4 p.m.), Monday through Friday, except holidays. Visitors are encouraged to call ahead to (703) 605-4792 to facilitate entry to the building.

FOR FURTHER INFORMATION CONTACT: Ivette E. Torres, Liaison Specialist, Minerals & Geology Management. Phone Number: (703) 605-4792, or (703) 615-7813. E-mail: ietorres@fs.fed.us.

Individuals who use telecommunication devices for the deaf (TDD) may call the Federal Information Relay Service (FIRS) at 1-800-877-8339 between 8 a.m. and 8 p.m., Eastern Standard Time, Monday through Friday.

SUPPLEMENTARY INFORMATION: The Forest Service intends to engage in rulemaking to provide clarity and direction on the management of the National Forest System surface resources when the mineral estate is privately held and fulfill the statutory mandate on the Allegheny National Forest in Pennsylvania. To that end, it hereby seeks public comment on the scope and direction of the intended rulemaking, including, but not limited to, the identification of the issues and concerns related to private oil and gas development on the Allegheny National Forest which would be appropriately considered in this rulemaking effort.

The proposed regulation will clarify and expand policy at 36 CFR 251.15—Conditions, rules and regulations to govern exercise of mineral rights reserved in conveyances to the United States, and be consistent with 36 CFR part 251 subpart D—Access to Non-Federal Lands. The proposed rulemaking is also intended to fulfill the mandate set forth by section 2508 of the Energy Policy Act of 1992, Public Law 102-486, 106 Stat. 3108-3109, which has been codified at 30 U.S.C. 226(o), concerning private oil and gas development on the Allegheny National Forest. Section 2508 requires 60-day prior notification and clarifies content requirements of the notification. The Forest Service invites public comment as it prepares for this rulemaking.

Regulatory Findings

This advance notice of proposed rulemaking is being issued to obtain public comment and provide clarity and direction on the management of National Forest System surface resources when the mineral estate is privately held, and to fulfill the statutory mandate in 30 U.S.C. 226(o), regarding the Allegheny National Forest in Pennsylvania. The Department is not proposing any specific approaches for managing non-Federal lands; there are no regulatory findings associated with this notice. Comments received will help the Department determine the extent and scope of any future rulemaking.

Conclusion

The Department of Agriculture is considering how best to proceed with engaging the public in identifying with issues and concerns related to private oil and gas developments on the Allegheny National Forest. Through this advance notice of proposed rulemaking, the Department is seeking public input as responses to concerns about the management of National Forest System surface resources when the mineral estate is privately held. Public input and comment will help inform the Department's consideration of how best to proceed with long-term uses and management of these areas. How the Department ultimately addresses the final rule will depend on a number of factors. These include court decisions, public comments, and practical options for amending the current rule, an EIS or both, using other administrative tools to implement land uses and access to non-Federal lands.

Dated: December 17, 2008.
Sally D. Collins,
Associate Chief.

[FR Doc. E8-30742 Filed 12-24-08; 8:45 am]

BILLING CODE 3410-11-P